DEPARTMENT OF THE INTERIOR

Bureau of Land Management

[CA-330-1220-AF]

King Range National Conservation Area, California

AGENCY: Bureu of Land Management, Interior.

ACTION: Establishment of supplementary rules.

SUMMARY: The Arcata Field Office is establishing the following Supplementary Rules for the King Range National Conservation Area as provided for under the recreation regulations of the Bureau of Land Management (BLM). The supplementary rules on camping limits are necessary to reduce resource damage and fire danger in the riparian area, dunes, and other undeveloped lands. The supplementary rules on camping fees are needed to cover a portion of maintenance and visitor service costs. The supplementary rule on nighttime parking is necessary to allow visitors to Black Sands Beach and other parts of the King Range backcountry to park if they arrive at night, while prohibiting nighttime activities that would disturb neighbors.

EFFECTIVE DATES: April 1, 2001.

ADDRESSES: You may send inquiries or suggestions to Field Office Manager, Bureau of Land Management, Arcata Field Office, 1695 Heindon Rd., Arcata, CA 95521.

FOR FURTHER INFORMATION CONTACT: Lynda J. Roush, (707) 825-2300.

SUPPLEMENTARY INFORMATION:

I. Background

The proposed Supplementary Rules were published in the Federal Register on May 25, 2000, with a 30-day comment period ending on June 26, 2000. BLM received 30 comments during this comment period.

Supplementary rules are authorized by 43 CFR 8365.1-6. The implementation of fees is authorized under the Land and Water Conservation Fund Act of 1965 as Amended, and the Omnibus Consolidated Rescissions Act of 1996 as Amended (Public Law 104-134).

II. Response to Public Comments

Based on the public comments and other information we received, BLM makes the following changes in the supplementary rules:

• We removed the proposed overnight parking fees for the Mattole and Black Sands Beach Recreation Sites. We will consider the need for parking fees at a later date.

• We clarified the description of the Black Sands Beach Recreation Site. The nighttime use requirements apply only to the immediate area within the developed site, not to the beach itself.

• We changed the nighttime camping fee periods for Honeydew Creek and Mattole Campground. Under the final Supplementary Rules you must pay a fee at Honeydew Creek for the period from sunset until 8 a.m. We made this change in order to be consistent with all other campgrounds in the King Range. We changed the nighttime fee period for Mattole Campground to one hour after sunset until one hour before sunrise. Note that these changes do not affect free public access to Honeydew Creek or Mattole Beach, but only pertain to overnight use of the developed campground.

III. Discussion of the Final Supplementary Rules

A. Camping at Mattole Campground

Currently visitors camp in areas between sites or in undeveloped areas immediately adjacent to the Mattole Campground. BLM intends the restriction of camping to developed campsites and the imposition of site capacity limits to reduce resource damage and fire danger the riparian area, dunes, and other undeveloped lands surrounding the Mattole Campground. This supplementary rule is also intended to provide a high quality experience to campground visitors by ensuring that the site is used for its intended purpose and capacity.

B. Camping Fees and Occupancy Limits

We have established camping fees at Honeydew Creek and Mattole Campgrounds to cover a portion of the maintenance and visitor service costs. BLM manages both sites under the Federal Fee Demonstration Program. This program requires that all fees be used for on-the-ground maintenance and services at the sites where they are collected. We have set the fees at a level commensurate with fees charged at other public and private camping areas in the region, adjusted for the level of amenities and on-site facilities we provide.

BLM has established occupancy limits to help provide a quality experience to campground visitors by ensuring that the sites are used for their intended purpose and capacity by families and small groups.

C. Nighttime Use of Black Sands Beach Recreation Site

Winter storms washed away the original Black Sands Beach Recreation Site, and BLM closed it in 1998. We closed this site to overnight use and camping beginning May 20, 1997 (FR Volume 62, Number 100, page 28495-28496), because coastal erosion made the site too small to accommodate camping and parking. This original site was separated from adjoining residences by a 75-foot coastal bluff that blocked both visual and sound impacts. A new site (planned for completion in autumn 2000) is under construction on top of the bluffs and immediately adjacent to private residences. BLM has designed the site to accommodate 2 types of use while protecting the privacy of adjoining residents. First, the site will serve as a day-use facility/beach access point, offering on-site amenities such as parking, a restroom, scenic overlooks, and interpretive signs. The opportunities we provide here will complement other BLM-managed coastal sites such as Abalone Point and Seal Rock, which are also adjacent to residences. All of these sites are open to day-use only, to minimize impacts on adjoining residents. In addition, the Black Sands Beach Recreation Sites serves as a major staging area for visitors heading onto the beach for overnight camping, backpacking, surfing, and other longer-term activities. Many of these visitors travel from long distances and may arrive or depart during the nighttime period. This rule allows nighttime access to the parking lot for visitors who are heading onto Black Sands Beach and other parts of the King Range backcountry, while prohibiting use of the site itself for nighttime activities.

IV. Procedural Matters

Executive Order 12866, Regulatory Planning and Review

These supplementary rules are not a significant regulatory action and are not subject to review by Office of Management and Budget under Executive Order 12866. These supplementary rules will not have an effect of $100 million or more on the economy. They will not affect commercial activity, but contain rules of conduct for public use of certain recreational areas. They will not adversely affect, in a material way, the economy, productivity, competition, jobs, the environment, public health or safety, or State, local, or tribal governments or communities. These supplementary rules will not create a serious inconsistency or otherwise interfere with an action taken or planned by another agency. The supplementary rules do not alter the budgetary effects of entitlements, grants, user fees, or loan programs or the right or obligations of their recipients; nor do they raise novel legal or policy issues.

Clarity of the Supplementary Rules

Executive Order 12866 requires each agency to write regulations that are simple and easy to understand. We invite your comments on how to make these supplementary rules easier to understand, including answers to questions such as the following:

(1) Are the requirements in the supplementary rules clearly stated?

(2) Do the supplementary rules contain technical language or jargon that interferes with their clarity?

(3) Does the format of the supplementary rules (grouping and order of sections, use of headings, paragraphing, etc.) aid or reduce their clarity?

(4) Would the supplementary rules be easier to understand if they were divided into more (but shorter) sections?

(5) Is the description of the supplementary rules in the SUPPLEMENTARY INFORMATION section of this preamble helpful in understanding the supplementary rules? How could this description be more helpful in making the supplementary rules easier to understand?

Please send any comments you have on the clarity of the supplementary rules to the address specified in the ADDRESSES section.

National Environmental Policy Act

BLM has prepared an environmental assessment (EA) and has found that the supplementary rules do not constitute a major Federal action significantly affecting the quality of the human environment under section 102(2)(C) of the Environmental Protection Act of 1969 (NEPA), 42 U.S.C. 4332(2)(C). The supplementary rules merely contain rules of conduct for certain recreational lands in California. These rules are designed to protect the environment and the public health and safety. A detailed statement under NEPA is not required. BLM has placed the EA and the Finding of No Significant Impact (FONSI) on file in the BLM Administrative Record at the address specified in the ADDRESSES section. BLM invites the public to review these documents.

Regulatory Flexibility Act

Congress enacted the Regulatory Flexibility Act of 1980, as amended, 5 U.S.C. 601-612, to ensure that Government regulations do not unnecessarily or disproportionately burden small entities. The RFA requires a regulatory flexibility analysis if a rule would have a significant economic impact, either detrimental or beneficial, on a substantial number of small entities. The supplementary rules do not pertain specifically to commercial or government entities of any size, but to public recreational use of specific public lands. Therefore, BLM has determined under the RFA that these supplementary rules would not have a significant economic impact on a substantial number of small entities.

Small Business Regulatory Enforcement Fairness Act (SBREFA)

These supplementary rules do not constitute a “major rule” as defined at 5 U.S.C. 804(2). Again, the supplementary rules merely contain rules of conduct for recreational use of certain public lands. The supplementary rules have no effect on business—commercial or industrial—use of the public lands.

Unfunded Mandates Reform Act

These supplementary rules do not impose an unfunded mandate on State, local, or tribal governments or the private sector of more than $100 million per year; nor do these supplementary rules have a significant or unique effect on State, local, or tribal governments or the private sector. The supplementary rules do not require anything of State, local, or tribal governments. Therefore, BLM is not required to prepare a statement containing the information required by the Unfunded Mandates Reform Act (2 U.S.C. 1531 et seq.)

Executive Order 12630, Governmental Actions and Interference With Constitutionally Protected Property Rights (Takings)

The supplementary rules do not represent a government action capable of interfering with constitutionally protected property rights. The supplementary rules do not address property rights in any form, and do not cause the impairment of anyone's property rights. In part, the rules are intended to protect the property rights of neighboring landowners by restricting the nighttime use of the Black Sands Beach Parking Area/Recreation Site. Therefore, the Department of the Interior has determined that the supplementary rules will not cause a taking of private property or require further discussion of takings implications under this Executive Order.

Executive Order 13132, Federalism

The supplementary rules will not have a substantial direct effect on the States, on the relationship between the national government and the States, or on the distribution of power and responsibilities among the various levels of government. The supplementary rules affect land in only one State, California, and do not address jurisdictional issues involving the State government. Therefore, in accordance with Executive Order 13132, BLM has determined that these supplementary rules do not have sufficient Federalism implications to warrant preparation of a Federalism Assessment.

Executive Order 12988, Civil Justice Reform

Under Executive Order 12988, BLM has determined that these supplementary rules would not unduly burden the judicial system and that they meet the requirements of sections 3(a) and 3(b)(2) of the Order.

Paperwork Reduction Act

These supplementary rules do not contain information collection requirements that the Office of Management and Budget must approve under the Paperwork Reduction Act, 44 U.S.C. 3501 et seq.

Author

The principal author of these supplementary rules is Robert Wick, Outdoor Recreation Planner, of the Arcata Field Office, Bureau of Land Management, Department of the Interior.

For the reasons stated in the Preamble, and under the authority of 43 CFR chapter II, part 8360, section 8365.1-6, the Arcata Field Office Manager establishes supplemental rules to read as follows:

Supplementary Rules for the King Range National Conservation Area

Section 1 Camping Limits at Mattole Campground

BLM-administered public lands within 500 feet of the perimeter of the Mattole Campground are closed to camping (overnight occupancy) other than at developed campsites. For the purposes of this supplementary rule, a developed campsite contains both a picnic table and a permanent fire ring/grill.

Section 2 Overnight Camping Fees and Occupancy Limits for Mattole and Honeydew Creek Campgrounds

a. You must pay a campground use fee of $5.00 per campsite per night at the Mattole and Honeydew Creek Campgrounds. Fees are only for use of the developed campgrounds. There is no fee for use of the adjacent parking lot/beach access at the Mattole Campground.

1. Fees for campground use at Mattole Campground are in effect from one hour after sunset to one hour before sunrise.

2. Fees for campground use at the Honeydew Creek Campground are in effect from sunset to 8 a.m.

b. You may occupy a campsite with no more than 2 vehicles and 8 persons per site.

Section 3 Nighttime Use of Black Sands Beach Parking Area/Recreation Site

a. The Black Sands Beach Parking Area/Recreation Site is closed to all overnight camping. The developed parking area/recreation site is intended for day use and vehicle parking for beach access. This developed recreation site includes approximately 5 acres of public lands and easements on the bluffs above the wave slope north of Humboldt Creek and south of Telegraph Creek. This supplementary rule affects the developed site only and does not pertain to nighttime use of the beach.

b. Nighttime use is limited to vehicle parking and unloading for off-site public land visits. You may use the parking area/recreation site for no more than 30 minutes for unloading/loading purposes during the nighttime period. This supplementary rule does not affect day use.

c. For the purpose of this supplementary rule, the nighttime period is defined as 1 hour after sunset to 1 hour before sunrise.

Section 4 Prohibited Acts

You must not—

a. Camp overnight at the Mattole Campground or within 500 feet of the campground perimeter other than at developed campsites;

b. Fail to pay the campground use fee of $5.00 per campsite per night at the Mattole and Honeydew Creek Campgrounds;

c. Occupy a campsite at the Mattole and Honeydew Creek Campgrounds with more than 2 vehicles or 8 persons per site; or

d. Camp or engage in activities other than parking and unloading or loading at the Black Sands Beach Parking Area/Recreation Site during the nighttime hours.

Section 5 Penalties

Under the Federal Land Policy and Management Act of 1976 (43 U.S.C. 1733(a)), is you knowingly and willfully violate or fail to comply with any of the supplementary rules provided in this notice, you may be subject to a fine under 18 U.S.C. 3571 or other penalties in accordance with 43 U.S.C. 1733.

Michael Pool,
California State Director.

[FR Doc. 01-12514 Filed 5-17-01; 8:45 am]

BILLING CODE 4310-40-M